DEPARTMENT OF HEALTH AND HUMAN SERVICES

Centers for Disease Control and Prevention

Notice of Award of a Single-Source Cooperative Agreement To Fund Machakos County Government, Makueni County Government, Kitui County Government, and Nairobi County Government (Represented by Nairobi Metropolitan Services), Kenya

AGENCY: Centers for Disease Control and Prevention (CDC), Department of Health and Human Services (HHS).

ACTION: Notice.

SUMMARY: The Centers for Disease Control and Prevention (CDC), located within the Department of Health and Human Services (HHS) announces the award of approximately $1,400,000 for Year 1 of, and an average 1 year award amount of $350,000, funding to the Machakos County Government, Makueni County Government, Kitui County Government, and Nairobi County Government (represented by Nairobi Metropolitan Services). The awards will advance current efforts to attain ownership, leadership, and implementation capacity for HIV services by the Nairobi, Machakos, Makueni and Kitui County governments, and to achieve and sustain HIV epidemic control through sustainable high-quality comprehensive HIV prevention and treatment services. Funding amounts for years 2-5 will be set at continuation.

DATES: The period for this award will be September 30, 2022 through September 29, 2027.

FOR FURTHER INFORMATION CONTACT: Dr. Lucy Nganga, Center for Global Health, Centers for Disease Control and Prevention, KEMRI Campus, Mbagathi Road—off Mbagathi Way, P.O. Box 606, Village Market, 00621, Nairobi, Kenya. Telephone: 800-232-6348, Email: hon5@cdc.gov.

SUPPLEMENTARY INFORMATION: The single-source awards will support Nairobi, Machakos, Makueni and Kitui County Governments to achieve two goals: (1) Implementation and expansion of comprehensive HIV services with the goal of achieving and maintaining epidemic control, and (2) Strengthening the capacity of Nairobi, Machakos, Makueni and Kitui county governments' Department of Health Services to progressively manage, sustain and transition to ownership of HIV service delivery.

The 2010 Kenyan constitution (Chapter 11, article 174-176;189) https://www.klrc.go.ke/index.php/constitution-of-kenya; the Fourth Schedule, Part 2 https://www.klrc.go.ke/index.php/constitution-of-kenya/167-schedules-schedules/fourth-schedule-distribution-of-functions-between-national-and-the-county-governments and the Kenya Health Act (Act No. 21 2017) http://kenyalaw.org:8181/exist/kenyalex/actview.xql?actid=No.%2021%20of%202017 prescribed roles for the new county government, whereby each county is responsible for provision of health care services to its residents. Nairobi, Machakos, Makueni and Kitui County Governments' Departments of Health Services have the sole mandate to manage and implement Nairobi, Machakos, Makueni and Kitui Counties' public health response to HIV and implementing partners must work through these entities. CDC's support to Nairobi, Machakos, Makueni and Kitui County will directly increase the capacity of Department of Health Services to support long-term sustainable HIV service delivery response in Kenya.

Summary of the Award

Recipient: Machakos County Government, Makueni County Government, Kitui County Government, and Nairobi County Government (represented by Nairobi Metropolitan Services).

Purpose of the Award: The purpose of this award is to advance current efforts to attain ownership, leadership, and implementation capacity for HIV services by the Nairobi, Machakos, Makueni and Kitui County governments, and to achieve and sustain HIV epidemic control through sustainable high-quality comprehensive HIV prevention and treatment services. This will be achieved through health system strengthening and increased coverage of high quality, client-centered comprehensive HIV prevention and treatment services, resulting in a decrease in HIV incidence and reduction in HIV associated morbidity and mortality.

Amount of Award: The approximate year 1 funding amount in Federal Fiscal Year (FFY) 2022 funds will be, subject to the availability of funds:

• Kitui County: Anticipated Year 1 Funding Amount is $300,000.

• Makueni County: Anticipated Year 1 Funding Amount is $300,000.

• Machakos County: Anticipated Year 1 Funding Amount is $300,000.

• Nairobi County: Anticipated Year 1 Funding Amount is $500,000.

Funding amounts for years 2-5 will be set at continuation.

Authority: Public Law 108-25 (the United States Leadership Against HIV AIDS, Tuberculosis and Malaria Act of 2003).

Period of Performance: September 30, 2022 through September 29, 2027.

Dated: March 2, 2022.
Terrance Perry,
Chief Grants Management Officer, Centers for Disease Control and Prevention.

[FR Doc. 2022-04824 Filed 3-7-22; 8:45 am]

BILLING CODE 4163-18-P